ENVIRONMENTAL PROTECTION AGENCY

40 CFR Part 721

[EPA-HQ-OPPT-2016-0207; FRL-9956-13]

RIN 2070-AB27

Significant New Use Rules on Certain Chemical Substances; Technical Correction

AGENCY: Environmental Protection Agency (EPA).

ACTION: Final rule; technical correction.

SUMMARY: EPA issued a final rule in the Federal Register of November 17, 2016 for 57 chemical substances that were the subject of premanufacture notices (PMNs). For the chemical substance that was the subject of PMN P-15-614, EPA inadvertently listed an incorrect Chemical Abstract Service (CAS) Registry Number. In addition, for the chemical substance that was the subject of PMN P-16-52, EPA inadvertently used the incorrect name. The amendment in this document is being issued to correct these errors.

DATES: This technical correction is effective January 17, 2017.

ADDRESSES: The docket for this action, identified by docket identification (ID) number EPA-HQ-OPPT-2016-0207, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT:

For technical information contact: Kenneth Moss, Chemical Control Division, Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

The Agency included in the November 17, 2016 final rule a list of those who may be potentially affected by this action.

II. What does this technical correction do?

EPA issued a final rule in the Federal Register of November 17, 2016 (81 FR 81250) (FRL-9953-41) for significant new uses for 57 chemical substances that were the subject of PMN notices. EPA included the wrong Chemical Abstracts Service (CAS) Registry Number for § 721.10949 and the wrong name for § 721.10958. This action corrects these errors.

III. Why is this correction issued as a final rule?

Section 553 of the Administrative Procedure Act (APA) (5 U.S.C. 553(b)(3)(B)) provides that, when an Agency for good cause finds that notice and public procedure are impracticable, unnecessary or contrary to the public interest, the Agency may issue a final rule without providing notice and an opportunity for public comment. EPA has determined that there is good cause for making this technical correction final without prior proposal and opportunity for comment. The SNUR at § 721.10949 contains the wrong CAS number associated with PMN P-15-614, and the SNUR at § 721.10958 contains the wrong name associated with PMN P-16-52 that was the basis for the SNUR. EPA finds that this constitutes good cause under 5 U.S.C. 553(b)(3)(B).

IV. Do any of the statutory and Executive Order reviews apply to this action?

No. For a detailed discussion concerning the statutory and executive order review, refer to Unit XII. of the November 17, 2016 final rule.

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 721

Environmental protection, Chemicals, Hazardous substances, Reporting and Recordkeeping requirements.

Dated: December 9, 2016.
Maria J. Doa,
Director, Chemical Control Division, Office of Pollution Prevention and Toxics.

Therefore, 40 CFR part 721 is corrected as follows:

PART 721—[AMENDED]

1. The authority citation for part 721 continues to read as follows:

Authority: 15 U.S.C. 2604, 2607, and 2625(c).

2. In § 721.10949, revise paragraph (a)(1) to read as follows:

§ 721.10949 Neodymium sulfur yttrium oxide.

(a) Chemical substance and significant new uses subject to reporting. (1) The chemical substance identified as neodymium sulfur yttrium oxide (PMN P-15-614; CAS No. 1651153-45-5) is subject to reporting under this section for the significant new uses described in paragraph (a)(2) of this section.

* * * * *

3. In § 721.10958, revise the section heading and paragraph (a)(1) to read as follows:

§ 721.10958 Dialkylol amine, polymer with succinic anhydride and aromatic carboxylic acid (generic).

(a) Chemical substance and significant new uses subject to reporting. (1) The chemical substance identified generically as dialkylol amine, polymer with succinic anhydride and aromatic carboxylic acid (PMN P-16-52) is subject to reporting under this section for the significant new uses described in paragraph (a)(2) of this section.

* * * * *

[FR Doc. 2016-30769 Filed 12-22-16; 8:45 am]

BILLING CODE 6560-50-P